DEPARTMENT OF THE INTERIOR

Bureau of Land Management

[NM-030-1430-FB; NMNM 120291]

Recreation and Public Purpose (R&PP) Act Classification; Doña Ana County, NM

AGENCY: Bureau of Land Management (BLM), Interior.

ACTION: Notice of realty action.

SUMMARY: The Bureau of Land Management (BLM) has determined that land located in Doña Ana County, New Mexico is suitable for classification for lease and/or conveyance to New Mexico State University (NMSU) under authority of the Recreation and Public Purposes Act (R&PP), as amended (43 U.S.C. 869 et seq. ). NMSU proposes to use the land as a new satellite campus for the Doña Ana Community College.

DATES: Comments must be received by no later than November 17, 2008.

ADDRESSES: Written comments concerning this Notice should be addressed to: District Manager, BLM Las Cruces District Office, 1800 Marquess Street, Las Cruces, New Mexico 88005.

FOR FURTHER INFORMATION CONTACT: Al Chavez, Realty Specialist at the address above or by telephone at (575) 525-4350.

SUPPLEMENTARY INFORMATION: In accordance with section 7 of the Taylor Grazing Act, as amended, 43 U.S.C. 315f, the following described land has been examined and found suitable for classification as a non-profit, public purpose—specifically, a site for a new satellite campus of the NMSU Doña Ana Community College. The land is hereby classified accordingly. The parcel of public land is described as follows:

New Mexico Principal Meridian

T. 26 S., R. 5 E.,

Sec. 13, S½SW¼NE¼.

The area described contains 19.967 acres, more or less in Doña Ana County.

NMSU proposes to develop the land to construct a new satellite campus to meet the educational needs of the rapidly growing community. The site would be leased for a period of 5 years with the option to purchase after the sites are developed according to NMSU. Conveying title to the affected public land is consistent with current BLM land use planning.

The lease or conveyance, when issued, would be subject to the following terms, conditions, and reservations.

1. Provisions of the R&PP Act and to all applicable regulations of the Secretary of the Interior.

2. A right-of-way for ditches and canals constructed by the authority of the United States, Act of August 30, 1890 (43 U.S.C. 945).

3. The United States will reserve all minerals together with the right to prospect for, mine, and remove the minerals.

4. All valid existing rights documented on the official public land records at the time of lease/patent issuance.

5. Any other reservations that the authorized officer determines appropriate to ensure public access and proper management of Federal land and interests therein.

Additional detailed information concerning this Notice of Realty Action, including environmental documents, is available for review at the address above. On October 3, 2008, the lands described above will be segregated from all other forms of appropriation under the public land laws, including the mining and mineral leasing laws, except for lease or conveyance under the R&PP Act. On or before November 17, 2008, comments may be submitted regarding the proposed classification lease or conveyance of the land to the District Manager, BLM Las Cruces District Office, at the address above.

Only written comments will be accepted. Before including your address, phone number, e-mail address, or other personal identifying information in your comment, you should be aware that your entire comment—including your personal identifying information—may be made publicly available at any time. While you can ask us in your comment to withhold your personal identifying information from public review, we cannot guarantee that we will be able to do so.

Classification Comments: Interested parties may submit comments involving the suitability of the land for the proposed satellite campus. Comments on the classification is restricted to whether the land is physically suited for the proposal, where the use will maximize the future use or uses of the land, whether the use is consistent with local planning and zoning, or if the use is consistent with State and Federal programs.

Additional Comments: Interested parties may submit comments regarding the specific use proposed in the application and plan of development, whether the BLM followed proper administrative procedures in reaching the decision, or any other factor not directly related to the suitability of the land for a satellite campus. The State Director will review any adverse comments. In the absence of adverse comment, the classification will become effective on December 2, 2008. The land will not be offered for lease or conveyance until after the classification becomes effective.

(Authority: 43 CFR 2741.5)

Bill Childress,
District Manager, Las Cruces.

[FR Doc. E8-23431 Filed 10-2-08; 8:45 am]

BILLING CODE 4310-VC-P